DEPARTMENT OF COMMERCE

National Oceanic and Atmospheric Administration

50 CFR Part 648

[I.D. 102302B]

RIN 0648-AN12

Magnuson-Stevens Fishery Conservation and Management Act Provisions; Fisheries of the Northeastern United States; Summer Flounder, Scup, and Black Sea Bass Fisheries; Summer Flounder, Scup, and Black Sea Bass Fishery Management Plan

AGENCY: National Marine Fisheries Service (NMFS), National Oceanic and Atmospheric Administration (NOAA), Commerce.

ACTION: Notice of availability of a fishery management plan amendment; request for comments.

SUMMARY: NMFS announces that the Mid-Atlantic Fishery Management Council (Council) has submitted Amendment 13 to the Summer Flounder, Scup, and Black Sea Bass Fishery Management Plan (FMP) for Secretarial review and is requesting comments from the public. Amendment 13 is intended to revise the quota management program for the black sea bass commercial fishery in order to manage the fishery more effectively and to consider management measures to minimize the effects of fishing on essential fish habitat (EFH).

DATES: Comments must be received on or before December 30, 2002.

ADDRESSES: Comments on the FMP should be sent to Patricia A. Kurkul, Regional Administrator, NMFS, Northeast Regional Office, One Blackburn Drive, Gloucester, MA 01930. Mark the outside of the envelope, “Comments on Amendment 13 to the Summer Flounder, Scup, and Black Sea Bass FMP.”

Copies of the FMP, Amendment 13, the Final Environmental Impact Statement (FEIS), Regulatory Impact Review (RIR), and the Initial Regulatory Flexibility Analysis (IRFA) are available from Daniel Furlong, Executive Director, Mid-Atlantic Fishery Management Council, Federal Building, Room 2115, 200 S. New Street, Dover, DE 19904-6790.

FOR FURTHER INFORMATION CONTACT: Peter Christopher, Fishery Policy Analyst, 978-281-9288, fax 978-281-9135.

SUPPLEMENTARY INFORMATION: The purpose of Amendment 13 is to rectify problems associated with the black sea bass commercial fishery and to consider management measures to minimize the adverse effects of fishing on EFH. Amendment 13 to the FMP proposes to implement a coastwide annual quota program for the black sea bass commercial fishery to replace the current quarterly quota program. The coastwide annual quota program is proposed because it would best complement state-by-state quota allocations adopted by the Atlantic States Marine Fisheries Commission for black sea bass. Amendment 13 proposes to eliminate the requirement that vessels with both a Northeast Region Black Sea Bass permit and a Southeast Region Snapper/Grouper permit must relinquish their Northeast Region Black Sea Bass permit for 6 months after a fishery closure if they want to continue to fish for black sea bass south of Cape Hatteras under their Southeast Region Snapper/Grouper permit. The Council considered alternatives for minimizing adverse impacts of fishing on EFH, and has determined that current measures are adequate.

A proposed rule that would implement the FMP may be published in the Federal Register for public comment, following NMFS' evaluation of the proposed rule under the procedures of the Magnuson-Stevens Fishery Conservation and Management Act. Public comments on the proposed rule must be received by the end of the comment period on the FMP to be considered in the approval/disapproval decision on the FMP. All comments received by December 30, 2002, whether specifically directed to the FMP or the proposed rule, will be considered in the approval/disapproval decision on the FMP. Comments received after that date will not be considered in the decision to approve or disapprove the FMP.

Authority: 16 U.S.C. 1801 et seq.

Dated: October 24, 2002.
Bruce C. Morehead,
Acting Director, Office of Sustainable Fisheries, National Marine Fisheries Service.

[FR Doc. 02-27566 Filed 10-29-02; 8:45 am]

BILLING CODE 3510-22-S